DEPARTMENT OF HEALTH AND HUMAN SERVICES

42 CFR Part 7

[Docket No. CDC-2013-0013]

RIN 0920-AA52

Distribution of Reference Biological Standards and Biological Preparations

AGENCY: Centers for Disease Control and Prevention (HHS/CDC), Department of Health and Human Services (HHS).

ACTION: Confirmation of effective date of direct final rule.

SUMMARY: The Centers for Disease Control and Prevention (CDC) within the Department of Health and Human Services (HHS) is publishing this document to confirm the effective date of the Direct Final Rule (DFR), published on July 22, 2013 (78 FR 43817).

DATES: The Direct Final Rule published at 78 FR 43817, July 22, 2013, will become effective on September 20, 2013.

FOR FURTHER INFORMATION CONTACT: For questions concerning this document: Dr. Carolyn M. Black, M.D., Division of Scientific Resources, Centers for Disease Control and Prevention, 1600 Clifton Road NE., Mailstop C-17, Atlanta, Georgia 30333; telephone 404-639-3466.

SUPPLEMENTARY INFORMATION: On July 22, 2013, HHS/CDC published a Direct Final Rule (DFR) amending 42 CFR part 7 to update the agency name, address, and contact information for that part (78 FR 43817. In that document, HHS/CDC indicated that if we did not receive any significant adverse comments on the direct final rule by August 21, 2013, we would publish a document in the Federal Register confirming the effective date of the direct final rule within 30 days after the end of the comment period. HHS/CDC did not receive significant adverse comment to the DFR. Therefore, consistent with the Direct Final Rule, the updated agency name and address and contact information for 42 CFR part 7 will become effective on September 20, 2013 (78 FR 43817).

Dated: September 11, 2013.
Kathleen Sebelius,
Secretary.

[FR Doc. 2013-22685 Filed 9-17-13; 8:45 am]

BILLING CODE 4163-18-P